DEPARTMENT OF AGRICULTURE

Forest Service

Idaho Panhandle National Forests, Bonner County, Idaho and Pend Oreille County, Washington; Chips Ahoy Project

AGENCY: Forest Service, USDA.

ACTION: Notice of intent to prepare an environmental impact statement.

SUMMARY: The Priest Lake Ranger District on the Idaho Panhandle National Forests will prepare an environmental impact statement (EIS) on a proposal to treat forest vegetation over approximately 980 acres. The treatments are being proposed to restore forest communities to a more historical composition and structure and re-introduce fire into these ecosystems. Treatments include 780 acres of regeneration harvest and 200 acres of commercial thinning.

DATES: Comments concerning the scope of the analysis must be received within 30 days from the date of this notice in the Federal Register and during the draft EIS period. The draft environmental impact statement is expected in March 2003 and the final environmental impact statement is expected June 2003.

ADDRESSES: Send written comments to Chips Ahoy Project, Attn: Steve Johnson, Forest Supervisor's Office, 3815 Shreiber Way, Coeur d'Alene, ID 83815.

FOR FURTHER INFORMATION CONTACT: Steve Johnson, Project Leader, Idaho Panhandle Supervisor's Office at the above address, by calling (208) 765-7224, or ssjohnson@fs.fed.us.

SUPPLEMENTARY INFORMATION: The project area is located within Bonner County, Idaho, and Pend Oreille County, Washington. The project area is located approximately twenty miles north of the community of Priest River, Idaho. A past bark beetle outbreak, in combination with root diseases, other insects and diseases and winter storm damage has left many of these stands poorly stocked.

Purpose and Need for Action

The purpose and need for this action is to restore dry forest communities to a more natural composition and structure and re-introduce fire into these ecosystems and increase the amount of wet forest communities that are dominated by western white pine and western larch trees.

Proposed Action

The proposed action is separated into three categories, vegetative treatments, fuel treatments and road treatments. The proposal is to treat forest vegetation over approximately 980 acres within the project area. Different types of treatments would be used depending upon the existing condition of the forest stands. These treatments include regeneration treatments on 780 acres and commercial thinning on the remaining 200 acres. After the tree cutting operations are complete, approximately 930 acres, or 95 percent of the vegetative treatment areas would be underburned to reduce the fuels, prepare the sites for reforestation, and to re-introduce fire onto these sites as a natural process. The remaining 5 percent of the vegetative treatment would not be burned. In order to access some of the proposed vegetative treatment areas, approximately 2.5 miles of temporary road would be constructed. These temporary roads would be recontoured following their use. Resource protection measures will be included to protect resources such as snags, soils, heritage resources, water quality and wildlife.

Responsible Official

Ranotta K. McNair, Forest Supervisor, Idaho Panhandle National Forests, 3815 Schreiber Way, Coeur d'Alene, ID 83815.

Nature of Decision To Be Made

The Forest Supervisor of the Idaho Panhandle National Forests will decide whether or not to implement this project, and if so, in what manner.

Scoping Process

The agency invites written comments and suggestions on the scope of the analysis. In addition to this notice, a proposed action letter will be sent to interested government officials, agencies, groups, and individuals on the Chips Ahoy mailing list. No public meetings are currently planned.

Comment Requested

This notice of intent initiates the scoping process which guides the development of the environmental impact statement. Specific written comments on the proposed action will be most helpful.

Early Notice of Importance of Public Participation in Subsequent Environmental Review

A draft environmental impact statement will be prepared for comment. The comment period on the draft environmental impact statement will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th cir. 1986) and Wisconsin Heritages, Inc. v. Harris, 490 F. Supp. 1334, 338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 25, 2002.
Ranotta K. McNair,
Forest Supervisor.

[FR Doc. 02-30380 Filed 12-05-02; 8:45 am]

BILLING CODE 3410-11-M